FEDERAL MINE SAFETY AND HEALTH REVIEW COMMISSION

Sunshine Act; Meeting

September 16, 2004.

Time and Date: 10 a.m., Thursday, September 23, 2004.

Place: The Richard V. Backley Hearing Room, 9th Floor, 601 New Jersey Avenue, NW., Washington, DC.

Status: Open.

Matters To Be Considered: The Commission will consider and act upon the following in open session:

Secretary of Labor v. U.S. Steel Mining Co., Docket No. SE 2002-126. (Issues include whether the judge properly concluded that the operator violated 30 CFR 77.404(a), which requires equipment to be maintained in safe operating condition.)

Any person attending this meeting who requires special accessibility features and/or auxiliary aids, such as sign language interpreters, must inform the Commission in advance of those needs, subject to 29 CFR 2706.150(a)(3) and § 2706.160(d).

Contact Person For More Info: Jean Ellen, (202) 434-9950 / (202) 708-9300 for TDD Relay / 1-800-877-8339 for toll free.

Jean H. Ellen,
Chief Docket Clerk.

[FR Doc. 04-21483 Filed 9-21-04; 8:45 am]

BILLING CODE 6735-01-M